DEPARTMENT OF ENERGY

Federal Energy Regulatory Commission

Combined Notice of Filings

Take notice that the Commission has received the following Natural Gas Pipeline Rate and Refund Report Filings:

Filings Instituting Proceedings

Docket Number: PR17-27-000.

Applicants: NorthWestern Corporation.

Description: Tariff filing per 284.123(b),(e)/: Revised Rate Schedules for Transportation and Storage Service (MPSC Tax Tracker) to be effective 1/1/2017; Filing Type: 980.

Filed Date: 2/21/17.

Accession Number: 201702215020.

Comments/Protests Due: 5 p.m. ET 3/14/17.

Docket Numbers: RP17-405-000.

Applicants: Questar Pipeline, LLC.

Description: § 4(d) Rate Filing: Statement of Negotiated Rates Version 12.1.0 to be effective 3/20/2017.

Filed Date: 2/17/17.

Accession Number: 20170217-5011.

Comments Due: 5 p.m. ET 3/1/17.

Docket Numbers: RP17-406-000.

Applicants: Empire Pipeline, Inc.

Description: § 4(d) Rate Filing: Fuel Tracker 2017-Empire GTC 23.6 to be effective 4/1/2017.

Filed Date: 2/17/17.

Accession Number: 20170217-5083.

Comments Due: 5 p.m. ET 3/1/17.

Docket Numbers: RP17-407-000.

Applicants: National Fuel Gas Supply Corporation.

Description: § 4(d) Rate Filing: Fuel Tracker-Supply (Effective 04/01/17) to be effective 4/1/2017.

Filed Date: 2/17/17.

Accession Number: 20170217-5100.

Comments Due: 5 p.m. ET 3/1/17.

Docket Numbers: RP17-408-000.

Applicants: Texas Eastern Transmission, LP.

Description: Compliance filing TETLP OFO 2017 Penalty Disbursement Report to be effective N/A.

Filed Date: 2/17/17.

Accession Number: 20170217-5157.

Comments Due: 5 p.m. ET 3/1/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2017.
Nathaniel J. Davis, Sr.,
Deputy Secretary.

[FR Doc. 2017-04214 Filed 3-3-17; 8:45 am]

BILLING CODE 6717-01-P